DEPARTMENT OF THE INTERIOR

Fish and Wildlife Service

[FWS-R4-ES-2016-N209; FXES11140400000-178-FF04E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with listed species unless a Federal permit is issued that allows such activities. The Act requires that we invite public comment before issuing these permits.

DATES: We must receive written data or comments on the applications at the address given in ADDRESSES by January 4, 2017.

ADDRESSES: Reviewing Documents: Documents and other information submitted with the applications are available for review, subject to the requirements of the Privacy Act and Freedom of Information Act, by any party who submits a written request for a copy of such documents to the following office within 30 days of the date of publication of this notice: U.S. Fish and Wildlife Service Regional Office, Ecological Services, 1875 Century Boulevard, Atlanta, GA 30345 (Attn: Karen Marlowe, Permit Coordinator).

Submitting Comments: If you wish to comment, you may submit comments by any one of the following methods:

• U.S. mail or hand-delivery: Fish and Wildlife Service's Regional Office (see above).

• Email: permitsR4ES@fws.gov. Please include your name and return address in your email message. If you do not receive a confirmation from the Fish and Wildlife Service that we have received your email message, contact us directly at the telephone number listed in FOR FURTHER INFORMATION CONTACT.

FOR FURTHER INFORMATION CONTACT: Karen Marlowe, Permit Coordinator, 205-726-2667 (telephone) or 205-726-2479 (fax).

SUPPLEMENTARY INFORMATION: We invite review and comment from local, State, and Federal agencies and the public on applications we have received for permits to conduct certain activities with endangered and threatened species under section 10(a)(1)(A) of the Endangered Species Act of 1973, as amended (16 U.S.C. 1531 et seq.; Act), and our regulations in the Code of Federal Regulations (CFR) at 50 CFR 17. With some exceptions, the Act prohibits activities with listed species unless a Federal permit is issued that allows such activities. The Act requires that we invite public comment before issuing these permits.

Public Availability of Comments

Before including your address, phone number, email address, or other personal identifying information in your comment, you should be aware that your entire comment—including your personal identifying information—may be made publicly available at any time. While you can ask us in your comment to withhold your personal identifying information from public review, we cannot guarantee that we will be able to do so.

Permit Applications

Permit Application Number: TE 054973-5

Applicant: Nick Haddad, North Carolina State University, Raleigh, NC

The applicant requests renewal of his permit to take (capture, mark, transport, release, recapture, and salvage) the endangered Saint Francis' satyr butterfly (Neonympha mitchellii francisci) for population monitoring, scientific research, captive propagation, and release into suitable habitat in North Carolina.

Permit Application Number: TE 95412A-0

Applicant: Kentucky Department for Environmental Protection, Division of Water, Frankfort, KY

The applicant requests a permit to take (capture, handle, release) 19 species of endangered and threatened freshwater mussels and the threatened Big Sandy crayfish (Cambarus callainus) for presence/absence surveys in Kentucky.

Permit Application Number: TE 81756A-2

Applicant: Jason B. Robinson, Lexington, KY

The applicant requests renewal of his permit to continue take (capture with mist nets or harp traps, handle, identify, band, radio-tag, salvage) of Indiana bats (Myotis sodalis), gray bats (Myotis grisescens), and northern long-eared bats (Myotis septentrionalis) for presence/absence surveys and monitoring in Alabama, Arkansas, Florida, Georgia, Illinois, Indiana, Iowa, Kentucky, Maryland, Michigan, Mississippi, Missouri, New Jersey, New York, North Carolina, Ohio, Oklahoma, Pennsylvania, Tennessee, Vermont, Virginia, and West Virginia, and an amendment to authorize take (capture, handle, release) of blackside dace (Phoxinus cumberlandensis) in Kentucky and Tennessee, Kentucky arrow darters (Etheostoma spilotum) in Kentucky, and Big Sandy crayfish (Cambarus callainus) in Kentucky, Virginia, and West Virginia, for presence/absence surveys.

Permit Application Number: TE 59798B-1

Applicant: Daguna Consulting, LLC, Bristol, VA

The applicant requests amendment of their permit to add the States of Iowa, Illinois, Minnesota, and Wisconsin as locations where they may conduct take (capture, handle, tag, release) of 31 species of endangered and threatened freshwater mussels for presence/absence surveys and add authorization to take (capture, handle, tag, and release) of spectaclecase (Cumberlandia monodonta), Higgins eye (Lampsilis higginsii), scaleshell (Leptodea leptodon), and fat pocketbook (Potamilus capax) mussels for presence/absence surveys in Iowa, Illinois, Minnesota, Tennessee, and Wisconsin.

Authority: We provide this notice under section 10(c) of the Act.

Dated: November 23, 2016.
Aaron Valenta,
Acting Assistant Regional Director, Ecological Services, Southeast Region.

[FR Doc. 2016-29063 Filed 12-2-16; 8:45 am]

BILLING CODE 4333-15-P